DEPARTMENT OF DEFENSE

Office of the Secretary

Meeting of the Advisory Panel To Assess the Capabilities for Domestic Response to Terrorist Attacks Involving Weapons of Mass Destruction

ACTION: Notice of meeting.

SUMMARY: This notice sets forth the schedule and summary agenda for the next meeting of the Panel to Assess the Capabilities for Domestic Reponse to Terrorist Attacks Involving Weapons of Mass Destruction. While a small portion of the meeting will be open to the public, the bulk of the meeting will be closed due to the need to discuss classified information, consistent with 5 U.S.C. Appendix II, Section 10(d) and 5 U.S.C. 552b(c)(1). Notice of this meeting is required under the Federal Advisory Committee Act. (Pub. L. 92-463).

DATE: March 29, 2000.

ADDRESS: The Pentagon, Room 2E 527, Washington, DC.

PROPOSED SCHEDULE AND AGENDA: Panel to Assess the Capabilities for Domestic Response to Terrorist Attacks Involving Weapons of Mass Destruction will meet in closed session from 9:00 a.m. until 4:45 p.m. on March 29, 2000. The meeting will be open for public from 4:45 p.m. until 5:00 p.m. The closed portion of the meeting will include classified briefings on the threat of domestic WMD terrorist attacks and on response capabilities. Time will be allocated as noted for public comments by individuals or organizations.

FOR FURTHER INFORMATION: RAND provides information about this Panel on its web site at http://www.rand.org/organization/nsrd/terrpanel; it can also be reached at (202) 296-5000 extension 5282. Public comment presentations will be limited to two minutes each and must be provided in writing prior to the meeting. Mail written presentations and requests to register to attend the open public session to: Priscilla Schlegel, RAND, 1333 H Street, NW, Washington, DC 20005. Public seating for this meeting is limited, and is available on a first-come, first-served basis.

Dated: February 8, 2000.
L.M. Bynum,
OSD Federal Register Liaison Officer, Department of Defense.

[FR Doc. 00-3417 Filed 2-14-00; 8:45 am]

BILLING CODE 5001-10-M